DEPARTMENT OF JUSTICE

Notice of Lodging Proposed Consent Decree

In accordance with Departmental Policy, 28 CFR 50.7. notice is hereby given that a proposed consent decree in United States v. Caribbean Airport Facilities, Inc, and Anthony Tirri, Civil Action No. 01-2178 (JAG) (D.P.R.), was lodged with the United States Court for the District of Puerto Rico on September 5, 2001. This proposed Consent Decree concerns a complaint filed by the United States against Caribbean Airport Facilities, Inc. and Anthony Tirri, pursuant to the Clean Water Act, 33 U.S.C. 1311 and 1344, to obtain injunctive relief from and impose civil penalties against the Defendants for the unauthorized discharge of pollutants into waters of the United States in the Municipality of Carolina, Puerto Rico, and for noncompliance with the conditions and limitations of two permits issued by the United States Army Corps of Engineers under 33 U.S.C. 1344(a).

The proposed Consent Decree, among other things, (1) enjoins the Defendants from taking any actions that would discharge dredge or fill material into waters of the United States except in compliance with a permit issued pursuant to 33 U.S.C. 1344, (2) provides for mitigation for the environmental harm caused by Defendants' past discharges, and (3) requires the Defendants to pay civil penalties in the amount of $300,000.

The Department of Justice will accept written comments relating to this proposed Consent Decree for thirty (30) days from the date of publication of this notice. Please address comments to Scott Jordan, Senior Attorney, Environmental Defense Section, U.S. Department of Justice, P.O. Box 23986, Washington, D.C. 20026-3986. All comments must refer to United States v. Caribbean Airport Facilities, Inc, and Anthony Tirri, Department of Justice Reference No. 90-5-1-1-05837.

The proposed Consent Decree is on file at the Clerk's Office, United States District Court for the District of Puerto Rico at Frederico Degetau Federal Building, 150 Carlos Chardon Avenue, Hato Rey, Puerto Rico 00918, and may be examined there to the extent allowed by the rules of the Clerk's Office. In addition, the proposed Consent Decree may be viewed on the World Wide Web at http://www.usdoj.gov/enrd/ltopics.htm.

Mary F. Edgar,
Assistant Chief, Environmental Defense Section, Environment & Natural Resources Division.

[FR Doc. 01-24792 Filed 10-3-01; 8:45 am]

BILLING CODE 4410-15-M